DEPARTMENT OF HEALTH AND HUMAN SERVICES

Centers for Disease Control and Prevention

[30DAY-23-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Evaluating the Impact of Lymphedema and a Lymphedema Management Intervention for Women with Lymphatic Filariasis: Understanding Issues Related to Quality of Life—New—National Center for Infectious Diseases (NCID), Centers for Disease Control and Prevention (CDC). Lymphatic filariasis, a mosquito-transmitted parasitic disease affecting over 120 million people, is the second leading cause of permanent disability worldwide. Globally, lymphatic filariasis causes debilitating genital disease in an estimated 25 million men and lymphedema or elephantiasis of the leg in 15 million people, mostly women in poverty stricken countries. The World Health Organization (WHO) recently identified community management of chronic lymphedema as one of the top twenty lymphatic filariasis research priorities. Recent advances in the management of chronic lymphedema include a prescribed hygiene and wound care intervention. This intervention has shown promising results in preventing bacterial infections thus reducing acute attacks, and anecdotally improving overall quality of life, alleviating pain and preventing further suffering.

This pilot study will provide a micro-level perspective of women's own experiences of living with lymphedema and others responses to it, illuminating the nature of the disease, the vulnerability of those disabled by the disease, and the impact of an intervention to influence the consequences of having the disease. This study will provide a better understanding, through a combination of qualitative and quantitative methods, the influence of lymphadema as well as the efficacy of a lymphedema management intervention in reducing episodes of bacterial infections and improving quality of life in women with lymphedema in two developing countries.

Women will be queried through in-depth interviews, focus groups, and questionnaire surveys as to the influence of lymphadema on their lives. Quality of life domains that will be explored include physical health, psychological health, social relationships, economic productivity, spiritual health, stigma, and environment. Recommendations will be derived from this study for the global community of lymphatic filariasis researchers in developing countries initiating national and local programs for the management of chronic lymphedema. There are no costs to respondents.

Forms | Number of respondents | Number of responses/ respondent | Average burden/ response (in hours)
In-depth Survey at Sites A and B | 50 | 1 | 60/60
Cross-sectional Survey at Sites A and B | 200 | 1 | 60/60

Dated: February 28, 2003.
Thomas Bartenfeld,
Acting Associate Director for Policy, Planning and Evaluation, Centers for Disease Control and Prevention.

[FR Doc. 03-5394 Filed 3-6-03; 8:45 am]

BILLING CODE 4163-18-P